SECURITIES AND EXCHANGE COMMISSION

[Release No. 34-44974; File No. SR-Amex-2001-67]

Self-Regulatory Organizations; Order Granting Approval to Proposed Rule Change of the American Stock Exchange LLC to Codify Current Audit Trail and Trade Comparison Requirements and To Make Other Technical Amendments to the Exchange's Audit Trail Rules

October 24, 2001.

On August 28, 2001, the American Stock Exchange LLC (“Amex” or “Exchange”) filed with the Securities and Exchange Commission (“Commission”), pursuant to section 19(b)(1) of the Securities Exchange Act of 1934 (“Act”)¹ and Rule 19b-4 thereunder,² a proposal to codify certain audit trail and trade comparison requirements and to make other technical amendments to the Exchange's audit trial rules. On Septemberr 21, 2001, the Commission published the proposed rule change in the Federal Register.³ The Commission received no comments on the proposal. This order approves the proposed rule change.

¹ 15 U.S.C. 78s(b)(1).

² 17 CFR 240.19b-4.

³ See Securities Exchange Act Release No. 44807 (September 17, 2001), 66 FR 48727.

The Commission finds that the proposed rule change is consistent with the Act and the rules and regulations thereunder applicable to a national securities exchange.⁴ In particular, the Commission finds that the proposal is consistent with section 6(b)(5) of the Act which requires, among other things, that the rules of an exchange be designed to prevent fraudulent and manipulative acts and practices and to protect investors and the public interest, and not be designed to permit unfair discrimination between customers, issuers, brokers, and dealers.⁵ The proposed clarifications to the Amex's audit trail rules previously were set forth in the Exchange's information circulars, but were not codified in the Exchange's rules. The Commission believes that these provisions are reasonably designed to improve the Exchange's audit trail, and that codifying them will make the Exchange's rules more transparent to its members and other market participants.

⁴ In approving the proposed rule change, the Commission has considered the proposed rule's impact on efficiency, competition, and capital formation. See 15 U.S.C. 78c(f).

⁵ 15 U.S.C. 78f(b)(5).

It is therefore ordered, pursuant to section 19(b)(2) of the Act,⁶ that the proposed rule change (SR-Amex-2001-67) is approved.

⁶ 15 U.S.C. 78s(b)(2).

For the Commission, by the Division of Market Regulation, pursuant to delegated authority.⁷

⁷ 17 CFR 200.30-3(a)(12).

Margaret H. McFarland,
Deputy Secretary.

[FR Doc. 01-27328 Filed 10-30-01; 8:45 am]

BILLING CODE 8010-01-M